OFFICE OF PERSONNEL MANAGEMENT

5 CFR Part 532

RIN 3206-AN15

Prevailing Rate Systems; Redefinition of the Jacksonville, FL; Savannah, GA; Hagerstown-Martinsburg-Chambersburg, MD; Richmond, VA; and Roanoke, VA, Appropriated Fund Federal Wage System Wage Areas

AGENCY: U.S. Office of Personnel Management.

ACTION: Final rule.

SUMMARY: The U.S. Office of Personnel Management (OPM) is issuing a final rule to redefine the geographic boundaries of the Jacksonville, FL; Savannah, GA; Hagerstown-Martinsburg-Chambersburg, MD; Richmond, VA; and Roanoke, VA, appropriated fund Federal Wage System (FWS) wage areas. The final rule redefines Brantley, Glynn, and Pierce Counties, GA, from the Jacksonville wage area to the Savannah wage area; Greene County, VA, from the Hagerstown-Martinsburg-Chambersburg wage area to the Richmond wage area; and Nelson County, VA, from the Roanoke wage area to the Richmond wage area. These changes are based on consensus recommendations of the Federal Prevailing Rate Advisory Committee (FPRAC) to best match the counties proposed for redefinition to a nearby FWS survey area.

DATES: Effective date: This regulation is effective on July 14, 2015. Applicability date: This change applies on the first day of the first applicable pay period beginning on or after August 13, 2015.

FOR FURTHER INFORMATION CONTACT: Madeline Gonzalez, (202) 606-2838; email pay-leave-policy@opm.gov; or FAX: (202) 606-4264.

SUPPLEMENTARY INFORMATION: On February 2, 2015, OPM issued a proposed rule (80 FR 5487) to redefine Brantley, Glynn, and Pierce Counties, GA, from the Jacksonville, FL, wage area to the Savannah, GA, wage area; Greene County, VA, from the Hagerstown-Martinsburg-Chambersburg, MD, wage area to the Richmond, VA, wage area; and Nelson County, VA, from the Roanoke, VA, wage area to the Richmond wage area.

FPRAC, the national labor-management committee responsible for advising OPM on matters concerning the pay of FWS employees, reviewed and recommended these changes by consensus.

The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Katherine Archuleta,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Jacksonville, FL; Savannah, GA; Hagerstown-Martinsburg-Chambersburg, MD; Richmond, VA; and Roanoke, VA, wage areas to read as follows:

Appendix C to Subpart B of Part 532—Appropriated Fund Wage and Survey Areas

* * * * *

FLORIDA

* * * * *

Jacksonville

Survey Area

Florida:

Alachua

Baker

Clay

Duval

Nassau

St. Johns

Area of Application. Survey area plus:

Florida:

Bradford

Citrus

Columbia

Dixie

Flagler

Gilchrist

Hamilton

Lafayette

Lake

Levy

Madison

Marion

Orange

Osceola

Putnam

Seminole

Sumter

Suwannee

Taylor

Union

Volusia

Georgia:

Camden

Charlton

* * * * *

GEORGIA

* * * * *

Savannah

Survey Area

Georgia:

Bryan

Chatham

Effingham

Liberty

Area of Application. Survey area plus:

Georgia:

Appling

Bacon

Brantley

Bulloch

Candler

Evans

Glynn

Jeff Davis

Long

McIntosh

Pierce

Screven

Tattnall

Toombs

Wayne

South Carolina:

Beaufort (the portion south of Broad River)

Hampton

Jasper

* * * * *

MARYLAND

* * * * *

Hagerstown-Martinsburg-Chambersburg

Survey Area

Maryland:

Washington

Pennsylvania:

Franklin

West Virginia:

Berkeley

Area of Application. Survey area plus:

Maryland:

Allegany

Garrett

Pennsylvania:

Fulton

Virginia (cities):

Harrisonburg

Winchester

Virginia (counties):

Frederick

Madison

Page

Rockingham

Shenandoah

West Virginia:

Hampshire

Hardy

Mineral

Morgan

* * * * *

VIRGINIA

* * * * *

Richmond

Survey Area

Virginia (cities):

Colonial Heights

Hopewell

Petersburg

Richmond

Virginia (counties):

Charles City

Chesterfield

Dinwiddie

Goochland

Hanover

Henrico

New Kent

Powhatan

Prince George

Area of Application. Survey area plus:

Virginia (cities):

Charlottesville

Emporia

Virginia (counties):

Albemarle

Amelia

Brunswick

Buckingham

Caroline

Charlotte

Cumberland

Essex

Fluvanna

Greene

Greensville

King and Queen

King William

Lancaster

Louisa

Lunenburg

Mecklenburg

Middlesex

Nelson

Northumberland

Nottoway

Orange

Prince Edward

Richmond

Sussex

Westmoreland

Roanoke

Survey Area

Virginia (cities):

Radford

Roanoke

Salem

Virginia (counties):

Botetourt

Craig

Montgomery

Roanoke

Area of Application. Survey area plus:

Virginia (cities):

Bedford

Buena Vista

Clifton Forge

Covington

Danville

Galax

Lexington

Lynchburg

Martinsville

South Boston

Staunton

Waynesboro

Virginia (counties):

Alleghany

Amherst

Appomattox

Augusta

Bath

Bedford

Bland

Campbell

Carroll

Floyd

Franklin

Giles

Halifax

Henry

Highland

Patrick

Pittsylvania

Pulaski

Rockbridge

Wythe

* * * * *

[FR Doc. 2015-17212 Filed 7-13-15; 8:45 am]

BILLING CODE 6325-39-P